DEPARTMENT OF ENERGY

Federal Energy Regulatory Commission

Combined Notice of Filings #2

Take notice that the Commission received the following electric rate filings:

Docket Numbers: ER10-1825-001; ER10-1827-001.

Applicants: Cleco Power LLC, Cleco Evangeline LLC.

Description: Responses to Information Request regarding Notice of Change in Status filed by Cleco Power LLC, et al.

Filed Date: 6/26/12.

Accession Number: 20120626-5088.

Comments Due: 5 p.m. ET 7/17/12.

Docket Numbers: ER12-2221-000.

Applicants: Southern California Edison Company.

Description: GIA and Distribution Service Agreement SunEdison Utility Solutions LLC, Hesperia to be effective 7/11/2012.

Filed Date: 7/10/12.

Accession Number: 20120710-5000.

Comments Due: 5 p.m. ET 7/31/12.

Docket Numbers: ER12-2222-000.

Applicants: Duke Energy Carolinas, LLC.

Description: NCEMC NITSA Credits Amendment to be effective 7/1/2012.

Filed Date: 7/10/12.

Accession Number: 20120710-5027.

Comments Due: 5 p.m. ET 7/31/12.

Docket Numbers: ER12-2222-001.

Applicants: Duke Energy Carolinas, LLC.

Description: Duke Energy Carolinas, LLC submits tariff filing per 35.17(b): Amendment to NCEMC NITSA Filing to be effective 7/1/2012.

Filed Date: 7/10/12.

Accession Number: 20120710-5091.

Comments Due: 5 p.m. ET 7/31/12.

Docket Numbers: ER12-2223-000.

Applicants: PacifiCorp.

Description: Roseburg FP Agreement for Reduction of Network Upgrade Credit Repayment to be effective 6/28/2012.

Filed Date: 7/10/12.

Accession Number: 20120710-5060.

Comments Due: 5 p.m. ET 7/31/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 10, 2012.
Nathaniel J. Davis, Sr.,
Deputy Secretary.

[FR Doc. 2012-17340 Filed 7-16-12; 8:45 am]

BILLING CODE 6717-01-P